DEPARTMENT OF ENERGY

Federal Energy Regulatory Commission

Notice of New Docket Query Service in eLibrary

February 3, 2005.

Take notice that, effective January 24, 2005, the Commission added a New Docket Query service to its eLibrary system. This service is accessible from the Search New Docket Numbers (New Dockets) link on the eLibrary home page.

“New Dockets” enables any interested person to determine the new docket or subdocket number for a new filing as soon as the docket or subdocket number is assigned. After a docket number is assigned to the new filing, Commission staff get the filing ready for eLibrary and issue a notice of filing.

“New Dockets” works only for dockets or subdockets assigned on or after January 24, 2005. The query defaults to the current date, but users may enter any date range beginning on or after January 24, 2005, provided the range does not exceed 10 calendar days. The query returns a list of dockets and subdockets assigned up to the time of the query for the specified date or date range.

For each new docket/subdocket in the query results, the list displays the docket or subdocket creation date, the filed date, the docket description, and the applicant(s). If the associated document is in eLibrary at the time of the query, there is a link to the Docket or subdocket report.

The results page also provides a link to the Commission's eSubscription service so that users can subscribe to a docket of interest and receive e-mail notification when documents are added to eLibrary.

Questions about the “New Dockets” service may be directed to Brooks Carter at 202-502-8145 or brooks.carter@ferc.gov. If you need assistance or to report problems using “New Dockets,” e-mail FERCOnlineSupport@ferc.gov or call 1-866-208-3676 (toll free), or 202-502-6652 (local).

Magalie R. Salas,
Secretary.

[FR Doc. E5-544 Filed 2-9-05; 8:45 am]

BILLING CODE 6717-01-P